DEPARTMENT OF DEFENSE

Department of the Army, Corps of Engineers

Intent To Prepare a Draft Environmental Impact Statement/Environmental Impact Report for the Proposed Ballona Wetlands Restoration Project at Ballona Creek Within the City and County of Los Angeles, CA

AGENCY: U.S. Army Corps of Engineers, Department of the Army, DoD.

ACTION: Notice of intent.

SUMMARY: The U.S. Army Corps of Engineers (Corps) and the California Department of Fish and Game (CDFG) intend to jointly prepare a Draft Environmental Impact Statement/Environmental Impact Report (DEIS/EIR) for the proposed Ballona Wetlands Restoration Project. The proposed project is intended to return the daily ebb and flow of tidal waters, maintain freshwater circulation, and augment the physical and biological functions and services in the project area. Restoring the wetland functions and services would allow native wetland vegetation to be reestablished, providing important habitat for a variety of wildlife species. As a restored site, the Ballona Wetlands would play an important role to provide seasonal habitat for migratory birds. A restored, optimally functioning wetland would also benefit the adjacent marine environment and enhance the quality of tidal waters.

DATES: Submit comments on or before September 10, 2012.

FOR FURTHER INFORMATION CONTACT: Dr. Daniel P. Swenson at (213) 452-3414 (daniel.p.swenson@usace.army.mil), U.S. Army Corps of Engineers, Los Angeles District, P.O. Box 532711, Los Angeles, CA 90053-2325.

SUPPLEMENTARY INFORMATION: The Corps intends to prepare a joint EIS/EIR to assess the environmental effects associated with the proposed project. CDFG is the state lead agency for the EIR pursuant to the California Environmental Quality Act (CEQA).

1. Background. The 600-acre Ballona Wetlands Ecological Reserve is located in the western portion of the City of Los Angeles (partially within unincorporated Los Angeles County), south of Marina Del Rey and north of Playa Del Rey. The project site is situated approximately 1.5 miles west of Interstate 405 and approximately ¼-mile east of Santa Monica Bay. The project site is owned by the State of California, and is bisected by and includes a channelized span of Ballona Creek, a component feature of a federal flood risk management project.

2. Project Purpose and Need. A substantial portion of California's historic coastal wetlands have been lost. Restoration of coastal wetlands is needed in order to increase available nursery and foraging habitat for wildlife and to provide recreational and educational opportunities to the public. The Ballona Wetlands ecosystem is one of the last remaining major coastal wetlands in Los Angeles County. It is estimated that historically the wetlands ecosystem spanned more than 2,000 acres in the vicinity of the site. Development occurring over the last century greatly reduced the Ballona wetland area, now estimated at approximately 600 acres. In addition, the wetland habitat and natural hydrological functions in the area have been substantially degraded. The project site provides habitat for a diversity of plant and wildlife species, but most on-site habitat exhibits relatively low physical and biological functions and services.

The proposed project is intended to return the daily ebb and flow of tidal waters, maintain freshwater circulation, and augment the physical and biological functions and services in the project area. Restoring the wetland functions and services would allow native wetland vegetation to be reestablished, providing important habitat for a variety of wildlife species. As a restored site, the Ballona Wetlands would play an important role to provide seasonal habitat for migratory birds. A restored, optimally functioning wetland would also benefit the adjacent marine environment and enhance the quality of tidal waters. The proposed project would provide the community with a valuable educational resource and access to a large wetland area.

The purpose of the project is to restore ecological functions of the site, in part, by enhancing tidal flow.

3. Proposed Action. CDFG is proposing a large-scale restoration of the Ballona Wetlands Ecological Reserve. The proposed project entails restoring, enhancing, and establishing native coastal wetland and upland habitats in the approximately 600-acre Ballona Wetlands Ecological Reserve. The reserve currently supports large expanses of previously filled and dredged coastal wetland and upland habitat that would be restored by increasing tidal flow throughout the project area, removing invasive species, and planting native vegetation.

The main components of the proposed project are:

• Habitat restoration of estuarine wetland and upland habitats connected to a realigned Ballona Creek.

• Removal of existing Ballona Creek levees and realignment of Ballona Creak to restore a more meandering channel.

• Construction of levees along the perimeter of the project area to allow restoration of tidally influenced wetlands in the project area while providing flood risk management for Culver Boulevard and surrounding developed areas.

• Installation of water control structures, including culverts with self-regulating tide gates or similar structures, to provide a full range of tides up to an elevation acceptable for flood risk management and storm drainage, while reducing the risk of damage from storm events.

• Maintenance of existing levels of flood risk management for areas surrounding the Ballona Wetlands site.

• Provision of erosion protection as an integral part of the restoration design.

• Modification of infrastructure and utilities as necessary to implement the restoration project.

• Improving public access by realigning existing trails, creating new trails, repairing existing fences, constructing overlook platforms, and providing other visitor-oriented facilities.

• Long-term operations and management activities including inspections, repairs, clean-up, vegetation maintenance, and related activities.

The proposed project requires a permit under section 404 of the Clean Water Act (CWA) and section 10 of the Rivers and Harbors Act to conduct dredge and fill activities in waters of the United States and for work and (or) structures in or affecting navigable waters of the United States associated with restoring wetlands and associated habitat within the project site. Dredge and fill activities in waters of the United States are proposed to construct new levees, form new tidal channels, modify existing tidal channels, re-contour areas to enhance tidal flow, and to create elevations conducive to establishing wetland habitat. Preliminary conservative estimates indicate the project would result in a balanced total of 1,782,000 cubic yards of excavation and 1,782,000 cubic yards of fill placement, not all of which would affect jurisdictional areas. Based on these preliminary estimates, the volumes and areas of fill are estimated as follows: Permanent discharge of fill within 43.5 acres of non-wetland waters of the U.S. (435,000 cubic yards) and within 65 acres of wetland waters of the U.S. (600,000 cubic yards), as well as temporary discharge of fill within 3.5 acres of non-wetland waters of the U.S. (30,000 cubic yards) and within 0.3 acres of wetland waters of the U.S. (structural fill).

The project will also require a permit from the Corps to the Los Angeles County Department of Public Works, as the non-Federal sponsor of the Los Angeles County Drainage Area (LACDA) project, pursuant to 33 U.S.C. section 408 (408 permit). A section 408 permit is required to alter/modify a completed Corps project. The Ballona Creek levees were constructed by the Corps in the 1930s as part of LACDA. This project proposes to remove levees, construct a larger levee reach around the perimeter of the proposed side, reconfigure the existing concrete-lined Ballona Creek flood-control channel and realign the creek. A permit for modification/alteration of this magnitude would require Corps Headquarters approval.

4. Alternatives Considered. The feasibility of several alternatives is being considered and will be addressed in the DEIS/EIR. The No Federal Action/No Project Alternative, as required by NEPA and CEQA, would maintain the status quo and would include no improvements or discharges of fill material in waters of the United States or work or structures in or affecting navigable waters of the United States. Other alternatives that may be considered include restoring smaller portions of the 600-acre site, alternative designs that would provide differing amounts of various habitats types, and alternative designs for enhancing tidal flow. Additional alternatives may be developed during scoping and will also be considered in the DEIS/EIR.

5. Scoping Process.

a. Affected federal, state and local resource agencies, Native American groups and concerned interest groups/individuals are encouraged to participate in the scoping process. Public participation is critical in defining the scope of analysis in the DEIS/EIR, identifying significant environmental issues in the DEIS/EIR, providing useful information such as published and unpublished data, and knowledge of relevant issues and recommending mitigation measures to offset potential impacts from proposed actions.

b. Potential impacts associated with the proposed project will be fully evaluated. Potential significant issues to be addressed in the DEIS/EIR include aesthetics, air quality and greenhouse gas emissions, biological resources, cultural resources, geology and soils, hazards and hazardous materials, hydrology and water quality, land use and planning, noise, public services, recreation, sea-level rise, traffic, flood control, and utilities. Additional issues may be identified during the scoping process.

c. Individuals and agencies may offer information or data relevant to the environmental or socioeconomic impacts of the proposed project by submitting comments, suggestions, and requests to be placed on the mailing list for announcements to (see FOR FURTHER INFORMATION CONTACT) or the following email address: Daniel.p.swenson@usace.army.mil.

d. The Corps anticipates formally consulting with the U.S. Fish and Wildlife Service under Section 7 of the Endangered Species Act, the National Marine Fisheries Service under Section 305(b)(2) of the Magnuson-Stevens Fishery Conservation and Management Act (MSA), and with the State Historic Preservation Officer under Section 106 of the National Historic Preservation Act. The CDFG, as the project proponent, will need to obtain a CWA section 401 water quality certification or waiver and a consistency certification from the California Coastal Commission in accordance with the Coastal Zone Management Act.

6. Scoping Meeting Date, Time, and Location. A public scoping meeting to receive input on the scope of the DEIS/EIR will be conducted on August 16, 2012, from 4:00-7:00 p.m. at the Fiji Gateway entrance to the Ballona Wetlands (13720 Fiji Way, Marina del Rey, CA 90292, across from Fisherman's Village and Los Angeles County Department of Beaches and Harbors).

7. Availability of the DEIS/EIR. The DEIS/EIR is expected to be published and circulated in late 2012. A public hearing will be held after its publication to field comments on the document.

David J. Castanon,
Chief, Regulatory Division, Corps of Engineers.

[FR Doc. 2012-18166 Filed 7-24-12; 8:45 am]

BILLING CODE 3720-58-P